DEPARTMENT OF DEFENSE

Office of the Secretary

Notice of Availability of Final Environmental Impact Statement for the Continental United States Interceptor Site

AGENCY: Missile Defense Agency, Department of Defense.

ACTION: Notice of availability and notice of activity in Wetlands as required by Executive Order 11990 (Protection of Wetlands).

SUMMARY: The Missile Defense Agency (MDA) announces the availability of the Final Environmental Impact Statement (EIS) for the potential deployment of a Continental United States (CONUS) Interceptor Site (CIS). The CIS Final EIS was prepared in accordance with the National Environmental Policy Act (NEPA) of 1969 and the Council on Environmental Quality Regulations for Implementing the Procedural Provisions of NEPA and assesses the impacts of a potential deployment of a CIS. As required by the fiscal year 2013 National Defense Authorization Act, the MDA evaluated candidate sites for the potential future deployment of additional ground-based interceptors for homeland defense against threats from nations such as North Korea and Iran.

All potential sites analyzed in this Final EIS contain wetlands that would be affected. All practicable measures were taken to arrange a CIS footprint to minimize and avoid impacts to wetlands while still maintaining operational effectiveness. However, there are no practicable deployment alternatives that would completely avoid impacts to wetlands. If a deployment decision were made, the MDA would coordinate with the U.S. Army Corps of Engineers and applicable state departments of environmental protection to determine appropriate mitigations for wetland impacts. As required by Executive Order (E.O.) 11990 (Protection of Wetlands), MDA would prepare a Finding of No Practicable Alternative (FONPA) for the selected site. The FONPA would explain why there is no practicable alternative to impacting wetlands at the identified site.

DATES: The Final EIS will be available for 30 days following publication of the NOA in the Federal Register by the U.S. Environmental Protection Agency (USEPA).

FOR FURTHER INFORMATION CONTACT: Mr. Mark Wright, MDA Public Affairs, at 571-231-8212, or by email: mda.info@mda.mil.

SUPPLEMENTARY INFORMATION: The USEPA's Notice of Availability (NOA) (ER-FRL-9027-4) and the Department of Defense's (DoD) NOA (81 FR 34315-34316) for the Draft EIS was published in the Federal Register on May 31, 2016 providing notice that the Draft EIS was available for comment from June 3, 2016 to July 18, 2016. The public review period was extended to August 17, 2016 (81 FR 46069). The public review period was from June 3, 2016 through August 17, 2016 (75 days). Public open house meetings were held June 21, 2016 through June 30, 2016. Comments from the Draft EIS review and public meetings have been considered in and included along with responses in the Final EIS.

Proposed Action and Alternatives: Consistent with the 2019 Missile Defense Review, the DoD does not have a proposed action, budget authority, or direction to deploy a CIS and does not propose to deploy a CIS at this time; therefore, the preferred alternative is the “No Action Alternative”—no deployment. Current sites in Alaska and California provide the necessary protection of the homeland from a ballistic missile attack by countries such as North Korea and Iran.

If deployed, a CIS would be an extension of the existing Ground-based Midcourse Defense (GMD) element of the Ballistic Missile Defense System. To the extent practicable, the CIS would be built as a contiguous Missile Defense Complex, similar to that found at Fort Greely, Alaska, and would consist of a deployment of up to a total of 60 Ground-Based Interceptors (GBIs) in up to three GBI fields. The GBIs would not be fired from their deployment site except in the Nation's defense and no test firing would be conducted at a CIS. The overall system architecture and baseline requirements for a notional CIS include, but are not limited to, the GBI fields, Command Launch Equipment, In-Flight Interceptor Communication System Data Terminals, GMD Communication Network, supporting facilities, such as lodging and dining, recreation, warehouse and bulk storage, vehicle storage and maintenance, fire station, hazardous materials/waste storage, and roads and parking where necessary.

Candidate site locations considered in the EIS are: Fort Custer Training Center in Michigan; Camp Ravenna Joint Military Training Center (Recently renamed Camp James A. Garfield) in Ohio; and Fort Drum in New York. The Final EIS also analyzed a No Action Alternative or no CIS deployment, which is the preferred alternative. Consistent with the 2019 Missile Defense Review, the DoD does not have a proposed action, budget authority, or direction to deploy as CIS and does not propose to deploy a CIS at this time.

For each of the candidate site locations, the following resource areas were assessed: Air quality, air space, biological, cultural, environmental justice, geology and soils, hazardous materials and hazardous waste management, health and safety, land use, noise, socioeconomics, transportation, utilities, water, wetlands, and visual and aesthetics.

Public reading copies of the Final EIS are available for review at the public libraries within the communities near the Candidate Locations. For more information, including a downloadable copy of the Final EIS, visit the MDA website at https://www.mda.mil.

Dated: August 23, 2019.
Aaron T. Siegel,
Alternate OSD Federal Register Liaison Officer, Department of Defense.

[FR Doc. 2019-18587 Filed 8-29-19; 8:45 am]

BILLING CODE 5001-06-P